DEPARTMENT OF THE TREASURY

Submission for OMB Review; Comment Request

September 14, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 23, 2006 to be assured of consideration.

Alcohol and Tobacco Tax and Trade Bureau (TTB)

OMB Number: 1513-0056.

Type of Review: Extension.

Title: Distilled Spirits Plants—Transaction and Supporting Records (TTB REC 5110/5).

Description: Transaction records provide the source data for accounts of distilled spirits in all DSP operations. They are used by DSP proprietors to account for spirits and by TTB to verify those accounts and consequent tax liabilities.

Respondents: Business or other for profits.

Estimated Total Burden Hours: 6,060 hours.

OMB Number: 1513-0106.

Type of Review: Extension.

Title: Recordkeeping Requirements for Importers of Tobacco Products.

Form: TTB F 5220.6.

Description: Importers of tobacco products are required to maintain records of physical receipts and disposition of tobacco products to be able to prepare TTB Form 5220.6 a monthly report. Importers of tobacco products will consist of both large and small businesses that operate for profit.

Respondents: Business or other for profits.

Estimated Total Burden Hours: 1 hours.

OMB Number: 1513-0049.

Type of Review: Extension.

Title: Distilled Spirits Plant Denaturation Records and Monthly Report of Processing (Denaturing) Operations.

Form: TTB F 5110.43.

Description: The information collected is necessary to account for and verify the denaturation of distilled spirits. It is used to audit plant operations, monitor the industry for the efficient allocation of personnel resources, and compile statistics for government economic planning.

Respondents: Business and other for profits.

Estimated Total Burden Hours: 1,176 hours.

OMB Number: 1513-0080.

Type of Review: Extension.

Title: Equipment and Structures (TTB REC 5110/12).

Description: Marks, signs and calibrations are necessary on equipment and structures at a distilled spirits plant. These tools are used for the identification of major equipment and the accurate determination of contents.

Respondents: Business or other for profits.

Estimated Total Burden Hours: 1 hour.

OMB Number: 1513-0084.

Type of Review: Extension.

Title: Labeling of Sulfites in Alcoholic Beverages.

Description: In accordance with our consumer protection responsibilities, as mandated by law, TTB requires label disclosure statements on all alcoholic beverage products released from U.S. bottling premises or customs custody that contain 10 parts per million or more of sulfites. The disclosure reduces the consumer's exposure to sulfites, which has been shown to cause an allergic-type reaction in humans.

Respondents: Business or other for profits.

Estimated Total Burden Hours: 3,159 hours.

OMB Number: 1513-0039.

Type of Review: Extension.

Title: Distilled Spirits Plants Warehousing Records (TTB REC 5110/02) and Monthly Report of Storage Operations.

Form: TTB F 5110.11.

Description: The information collected is used to account for proprietor's tax liability, adequacy of bond coverage and protection of the revenue. It also provides data to analyze trends, audit plant operations, monitor industry activities and compliance to provide for efficient allocation of field personnel plus provide for economic analysis.

Respondents: Business or other for profits.

Estimated Total Burden Hours: 5,520 hours.

OMB Number: 1513-0082.

Type of Review: Extension.

Title: Alternate Methods or Procedures and Emergency Variations from Requirements for Exports of Liquors (TTB REC 5170/7).

Description: TTB allows exporters to request approval of alternate methods from those specified in regulations under 27 CFR part 28. TTB uses the information to evaluate needs, jeopardy to the revenue, and compliance with the law. TTB also uses the information to identify areas where regulations need changing.

Respondents: Business or other for profits.

Estimated Total Burden Hours: 200 hours.

OMB Number: 1513-0045.

Type of Review: Extension.

Title: Distilled Spirits Plants—Excise Taxes—TTB REC 5110/06.

Description: This collection of information is necessary to account for and verify taxable removals of distilled spirits. The data is used to audit tax payments.

Respondents: Business or other for profits.

Estimated Total Burden Hours: 3,458 hours.

Clearance Officer: Frank Foote, (202) 927-9347, Alcohol and Tobacco Tax and Trade Bureau, Room 200 East, 1310 G. Street, NW., Washington, DC 20005.

OMB Reviewer: Alexander T. Hunt, (202) 395-7316, Office of Management and Budget, Room 10235, New Executive Office Building, Washington, DC 20503.

Michael A. Robinson,
Treasury PRA Clearance Officer.

[FR Doc. 06-7827 Filed 9-20-06; 8:45 am]

BILLING CODE 4810-31-P